DEPARTMENT OF DEFENSE

Department of the Army, Corps of Engineers

Intent To Prepare an Environmental Impact Statement for the New Haven Harbor (New Haven, Connecticut) Navigation Improvement Project

AGENCY: U.S. Army Corps of Engineers, DoD.

ACTION: Notice of intent.

SUMMARY: The U.S. Army Corps of Engineers (USACE), New England District is conducting a feasibility study and Environmental Impact Statement (EIS) to examine navigation-improvements to the existing New Haven Harbor Federal Navigation project. The non-Federal sponsor for the study is the New Haven Port Authority in partnership with the Connecticut State Port Authority. Inadequate channel depths result in navigation inefficiencies in transporting goods into and out of the harbor. To reach the terminals, larger ships must lighter outside the breakwaters and/or experience delays while waiting for favorable tide conditions, or both. Deeper and wider navigation features (main channel, maneuvering area, and turning basin) are needed to increase the navigation efficiency and safety of New Haven Harbor.

FOR FURTHER INFORMATION CONTACT: Questions about the proposed action and EIS can be answered by: Mr. Todd Randall, U.S. Army Corps of Engineers, New England District, 696 Virginia Road, Concord, MA 01742-2751, (978) 318-8518, email: todd.a.randall@usace.army.mil.

DATES: A public scoping meeting will be held on January 24, 2017 from 6:30 p.m. to 8:30 p.m. (registration starts at 6:00 p.m.) at the Hall of Records, Hearing Room, 200 Orange Street, New Haven, Connecticut.

SUPPLEMENTARY INFORMATION: The Corps participation in this study is authorized by a resolution of the Senate Committee on the Environment and Public Works dated July 31, 2007. This study was initiated at the request of the New Haven Port Authority and the Connecticut State Port Authority. The study is being cost-shared 50-percent Federal and 50-percent non-Federal with the New Haven Port Authority.

Proposed Action: The study will consider navigation improvements including deepening and widening the federal navigation project. The New Haven Harbor navigation project's main ship channel, maneuvering area, and turning basin are authorized to a depth of −35 feet mean lower low water (MLLW). The main ship channel is about 5 miles long extending from deep water in Long Island Sound to the terminals at the head of the harbor. The channel varies in width from 500 feet (outer-harbor) to 400 feet (inner-harbor), and widens to 800 feet along the terminals. Deeper and wider channels, maneuvering area, and turning basin are needed to increase the navigation efficiency and safety of New Haven Harbor.

Alternatives: The feasibility study will identify, evaluate, and recommend to decision makers an appropriate, coordinated and workable solution to the navigation inefficiencies at New Haven Harbor. Alternatives will include analyzing various incremental channel depths and widths based upon need, as well as alternative dredging methodologies. In addition, the study will evaluate various dredged material disposal alternatives such as beneficial use (e.g., marsh creation, beach nourishment, historic disposal mound capping), nearshore placement, open water placement, and upland placement.

Public Involvement and Scoping: Full public participation of affected Federal, state and local agencies, affected Indian tribes, and other interested private organizations and parties is invited. All interested parties are encouraged to submit their names and email addresses to the address noted above, to be placed on the project mailing list to receive fact sheets, newsletters and related public notices. The Corps and the New Haven Port Authority will host a public meeting on the study on January 24, 2017 (see DATES section). The public is invited to attend and further identify issues that should be addressed in the EIS. In addition to this notice, the date, place, and time of the public meeting will be announced in the local newspaper and on the USACE New England District Web page. Following the scoping process, a public informational meeting will be held in 2017 to present and discuss potential project alternatives. The Draft Integrated Feasibility Report and Environmental Impact Statement (IFR/EIS) is scheduled to be complete in April of 2018 and will be available for public review and comment.

Significant Issues: Significant issues to be discussed in the DEIS include the effects of dredging and disposal on the physical, biological, cultural, and socioeconomic environment of the project area.

Environmental Review and Consultation Requirements: The proposed project is subject to review pursuant (but not limited to) to the Coastal Zone Management Act, Clean Water Act, Clean Air Act, Endangered Species Act, Fish and Wildlife Coordination Act, Magnuson-Stevens Fishery Conservation and Management Act, Marine Protection, Research, and Sanctuaries Act, and the National Environmental Policy Act.

Estimated Date: It is estimated that the Draft IFR/EIS will be made available to the public in April of 2018.

Dated: December 20, 2016.
Colonel Christopher J. Barron,
District Commander, U.S. Army Corps of Engineers, New England.

[FR Doc. 2016-31210 Filed 12-23-16; 8:45 am]

BILLING CODE 3720-58-P